DEPARTMENT OF THE INTERIOR

Fish and Wildlife Service

[FWS-R4-ES-2010-N112; [40120-1112-0000-F5]

Emergency Issuance of Endangered Species Permits

AGENCY: Fish and Wildlife Service, Interior.

ACTION: Notice.

SUMMARY: We, the Fish and Wildlife Service (Service), have waived the 30-day public notice period and have issued endangered species permits to address emergency situations resulting from the Mississippi Canyon 252 oil spill.

ADDRESSES: Documents and other information submitted with the permits are available for review, subject to the requirements of the Privacy Act and Freedom of Information Act, by any party who submits a written request for a copy of such documents to the following: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: We have issued the following permits for activities with endangered and threatened species under section 10(a)(1)(A) of the Endangered Species Act of 1973, as amended (16 U.S.C. 1531 et seq.). We provide this notice under section 10(c) of the Act. Endangered Species Act regulations at title 50, Code of Federal Regulations (CFR) Part 17.22 allow us to waive public notice in an emergency situation where the life or health of an endangered animal is threatened and no reasonable alternative is available to the applicant.

The following permittees have been authorized to receive and retain, for greater than 45 days, Kemp's Ridley (Lepidochelys kempii), hawksbill (Eretmochelys imbricata), leatherback (Dermochelys coriacea), green (Chelonia mydas), loggerhead (Caretta caretta), and olive ridley (Lepidochelys olivacea) sea turtles for veterinary treatment or euthanasia under certain conditions.

TE014234, The Turtle Hospital, Marathon, Florida

TE12123A, Gumbo Limbo Nature Center, Boca Raton, Florida

TE12392A, Institute for Marine Mammal Studies, Gulfport, Mississippi

TE12399A, Audubon Nature Institute, Audubon Aquarium of the Americas, New Orleans, Louisiana

TE017853, Mote Marine Laboratory, Sarasota, Florida

TE017849, Gulf World, Panama City Beach, Florida

TE12549A, Gulf Exhibition Corp., Florida's Gulfarium, Ft. Walton Beach, Florida

Dated: May 25, 2010.
Mark J. Musaus,
Acting Regional Director.

[FR Doc. 2010-13925 Filed 6-8-10; 8:45 am]

BILLING CODE 4310-55-P